DEPARTMENT OF THE INTERIOR

Fish and Wildlife Service

[FWS-R1-ES-2009-N0018; 10120-1112-0000-F2]

Endangered and Threatened Wildlife and Plants; Permits

AGENCY: Fish and Wildlife Service, Interior.

ACTION: Notice of Issuance of Enhancement of Survival and Incidental Take Permits.

SUMMARY: Between October 1, 2007, and September 30, 2008, the Pacific Region of the Fish and Wildlife Service (Service) issued 10 permits for enhancement of survival or incidental take of threatened and endangered species. These permits were issued pursuant to sections 10(a)(1)(A) and 10(a)(1)(B) of the Endangered Species Act of 1973, as amended (Act). Copies of the permits and associated decision documents are available upon request.

ADDRESSES: Documents are available from the U.S. Fish and Wildlife Service, 911 N.E. 11th Avenue, Portland, Oregon 97232; facsimile (503) 231-6243. Charges for copying, shipping and handling may apply.

FOR FURTHER INFORMATION CONTACT: Please contact Shelly Sizemore, Administrative Assistant, at the above address and facsimile number or by telephone at (503) 231-2194.

SUPPLEMENTARY INFORMATION: Section 9 of the Act (16 U.S.C. 1531 et seq.) and its implementing regulations prohibit the take of wildlife species listed as endangered or threatened. The term “take” means to harass, harm, pursue, hunt, shoot, wound, kill, trap, capture, or collect listed wildlife, or to attempt to engage in any such conduct. We may, under limited circumstances, issue permits to authorize take that is incidental to, and not the purpose of, carrying out an otherwise lawful activity. Regulations governing permits for threatened and endangered species are found at 50 CFR 17.32 and 17.22.

Although not required by law or regulation, it is our regional policy to notify the public of permits issued for enhancement of survival or incidental take under Habitat Conservation Plans (HCPs), Safe Harbor Agreements (SHAs), or Candidate Conservation Agreements with Assurances. Within the Pacific Region of the Service, between October 1, 2007, and September 30, 2008, we issued 7 permits for enhancement of survival and 2 permits for incidental take of threatened and endangered species subject to certain conditions set forth therein, pursuant to sections 10(a)(1)(A) and 10(a)(1)(B) of the Act. The enhancement of survival permits are associated with SHAs. The incidental take permits are associated with HCPs. We issued each permit after determining that: (1) the permit application was submitted in good faith; (2) all permit issuance criteria were met, including the requirement that granting the permit will not jeopardize the continued existence of listed species; and (3) the permit was consistent with the purposes and policy set forth in the Act and applicable regulations, including a thorough review of the environmental effects of the action and alternatives pursuant to the National Environmental Policy Act of 1969 (42 U.S.C. 4321 et seq.).

Permit No. | Applicant | Receipt of application Federal Register notice | Permit issuance date | Name of approved plan or agreement
Habitat Conservation Plans
TE165744-0 | Broughton Land Company | 73 FR 11870; March 5, 2008 | September 18, 2008 | Broughton Land Company Native Fish HCP.
TE194350-0 | Castle & Cooke Resorts, LLC | 73 FR 39025; July 8, 2008 | September 26, 2008 | Lanai Meteorological Tower HCP.
Safe Harbor Agreements
TE134628-0 | The Nature Conservancy | 71 FR 52816; September 7, 2006 | May 1, 2008 | Columbia Basin pygmy rabbit (CBPR) template SHA.
TE144770-0 | Tom Davis Farms J.V. | 72 FR 20557; April 25, 2007 | March 27, 2008 | CBPR template SHA.
TE144776-0 | William Paul Malone | 72 FR 20557; April 25, 2007 | March 27, 2008 | CBPR template SHA.
TE145559-0 | Dale R. Pixlee | 72 FR 20557; April 25, 2007 | March 27, 2008 | CBPR template SHA.
TE146609-0 | Clements Farms Inc. | 72 FR 20557; April 25, 2007 | March 27, 2008 | CBPR template SHA.
TE146767-0 | Heer Brothers J.V. | 72 FR 20557; April 25, 2007 | March 27, 2008 | CBPR template SHA.
TE147289-0 | Don W. Roberts | 72 FR 20557; April 25, 2007 | March 27, 2008 | CBPR template SHA.
TE149047-0 | David Adams Family LLC. | 72 FR 20557; April 25, 2007 | March 27, 2008 | CBPR template SHA.

Copies of each permit, the accompanying HCP or SHA, and associated documents are available upon request. Decision documents for each permit include a Finding and Recommendation; a Biological Opinion; and either a Record of Decision, Finding of No Significant Impact, or an Environmental Action Statement. Associated documents may also include an Implementing Agreement, Environmental Impact Statement, or Environmental Assessment, as applicable.

February 24, 2009.
Theresa E. Rabot,
Acting Deputy Regional Director, U.S. Fish and Wildlife Service, Region 1, Portland, Oregon.

[FR Doc. E9-6848 Filed 3-26-09; 8:45 am]

BILLING CODE 4310-55-S